FEDERAL COMMUNICATIONS COMMISSION

47 CFR Part 73

[DA 05-763; MB Docket No. 04-219; RM-10986]

Radio Broadcasting Services; Evergreen, AL, and Shalimar, FL

AGENCY: Federal Communications Commission.

ACTION: Final rule.

SUMMARY: This document substitutes Channel 227C2 for Channel 227C1 at Evergreen, Alabama, reallots Channel 227C2 to Shalimar, Florida, and modifies the Station WPGG license to specify operation on Channel 227C2 at Shalimar. The reference coordinates for the Channel 227C2 allotment at Shalimar, Florida, are 30-23-36 and 86-29-45. See 69 FR 35562, June 25, 2004. With this action, the proceeding is terminated.

DATES: Effective May 9, 2005.

FOR FURTHER INFORMATION CONTACT: Robert Hayne, Media Bureau (202) 418-2177.

SUPPLEMENTARY INFORMATION: This is a synopsis of the Report and Order in MB Docket No. 04-219 adopted March 23, 2005, and released March 25, 2005. The full text of this decision is available for inspection and copying during normal business hours in the FCC Reference Information Center at Portals II, CY-A257, 445 12th Street, SW., Washington, DC. The complete text of this decision may also be purchased from the Commission's copy contractor, Best Copy and Printing, Inc., 445 12th Street, SW., Room CY-B402, Washington, DC 20554, telephone 1-800-378-3160 or http://www.BCPIWEB.com. The Commission will send a copy of this Report and Order in a report to Congress and the Government Accountability Office pursuant to the Congressional Review Act, see 5 U.S.C. 801(a)(1)(A).

List of Subjects in 47 CFR Part 73

Radio, Radio Broadcasting.

Part 73 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments, under Alabama, is amended by removing Evergreen, Channel 227C1.

3. Section 73.202(b), the Table of FM Allotments, under Florida, is amended by adding Shalimar, Channel 227C2.

Federal Communications Commission.
John A. Karousos,
Assistant Chief, Audio Division, Media Bureau.

[FR Doc. 05-7072 Filed 4-12-05; 8:45 am]

BILLING CODE 6712-01-P